DEPARTMENT OF TRANSPORTATION

Federal Aviation Administration

RTCA Special Committee 194; ATM Data Link Implementation

Pursuant to section 10(a)(2) of the Federal Advisory Committee Act (Pub. L. 92-463, 5 U.S.C., Appendix 2), notice is hereby given for Special Committee 194 meeting to be held March 12-15, 2001, starting at 1 p.m. on March 12. The meeting will be held at RTCA, 1140 Connecticut Ave., NW., Suite 1020, Washington, DC 20036.

The agenda will include: March 12: 1 p.m. Plenary Session: (1) Introductory Remarks; (2) Review Meeting Agenda; (3) Review Previous Meeting Minutes; (4) Proposed Revision 3 to Committee Terms of Reference; (5) Status of the Free Flight Select Committee Update; (6) Status of Working Group (WG)-2's document, “DO-XXX Implementation Requirements for Service Integrated Flight Operations and Air Traffic Management Using Addressed Data Link” (DO-INTEGRATION); (7) Working Group Reports; March 13: 8:30 a.m. (8) WG—2, Flight Operations and ATM Integration; (9) WG-1, Data Link Ops Concept & Implementation Plan; March 14: 8:30 a.m. (10) WG-2 and WG-1 meetings continue; 1 p.m. (11) WG-4, Service Provider Interface; March 15: 9 a.m. Plenary Session: (12) Review Meeting Agenda; (13) Review Status of WG-2 document, DO-INTEGRATION; (14) Working Group Reports; (15) Other Business; (16) Data and Location of Next Meeting; (17) Closing.

Attendance is open to the interested public but limited to space availability. With the approval of the chairman, members of the public may present oral statements at the meeting. Persons wishing to present statements or obtain information should contact the RTCA Secretariat, 1140 Connecticut Avenue, NW., Suite 1020, Washington, DC 20036; (202) 833-9339 (phone); (202) 833-9434 (fax); or http://www.rtca.org (web site). Members of the public may present a written statement to the committee at any time.

Issued in Washington, DC, on February 12, 2001.
Janice L. Peters,
Designated Official.

[FR Doc. 01-4152 Filed 2-16-01; 8:45 am]

BILLING CODE 4910-13-M